DEPARTMENT OF HEALTH AND HUMAN SERVICES

Centers for Disease Control and Prevention

[60Day-24-1348; Docket No. CDC-2024-0020]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a continuing information collection, as required by the Paperwork Reduction Act of 1995. This notice invites comment on a proposed information collection project titled The National Firefighter Registry (NFR) for Cancer. In accordance with the Firefighter Cancer Registry Act of 2018, the NFR will maintain a voluntary registry of firefighters to collect relevant health and occupational information of such firefighters for purposes of determining cancer incidence.

DATES: CDC must receive written comments on or before May 21, 2024.

ADDRESSES: You may submit comments, identified by Docket No. CDC-2020-0020 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

The National Firefighter Registry (NFR) for Cancer (OMB Control No. 0920-1348, Exp. 9/30/2024)—Revision—National Institute for Occupational Safety and Health (NIOSH), Centers for Disease Control and Prevention (CDC).

Background and Brief Description

In order to accurately monitor trends in cancer incidence and evaluate control measures among the U.S. fire service, Congress passed the Firefighter Cancer Registry Act of 2018. Under this legislation, CDC/NIOSH was directed to create a registry of U.S. firefighters for the purpose of monitoring cancer incidence and risk factors among the current U.S. fire service. Funding for the project was authorized through this legislation for five years as of fiscal year 2019.

According to the Firefighter Cancer Registry Act of 2018, the main goal of the National Firefighter Registry (NFR) for Cancer is to develop and maintain . . . a voluntary registry of firefighters to collect relevant health and occupational information of such firefighters for purposes of determining cancer incidence. Results from the NFR will provide information for decision makers within the fire service and medical or public health community to devise and implement policies and procedures to lessen cancer risk and/or improve early detection of cancer among firefighters. Revisions to this collection include an update of the estimated annualized time burden and occupational wage information to reflect current earnings based on the U.S. Bureau of Labor Statistics for 2022 and a more accurate number of respondents based on the first year of project enrollment. Additionally, minor updates to the enrollment questionnaire were made to improve readability and the overall user experience.

The below table outlines the estimated time burden for participants enrolling in the NFR. There are three corresponding documents to be completed as part of the enrollment process; the Informed Consent, User Profile, and Enrollment Questionnaire. The estimated time burden for the Informed Consent and User Profile are five minutes each, and an estimated twenty-minute burden for enrollment questionnaire. CDC requests OMB approval for an estimated 17,221 burden hours. There are no costs to respondents other than their time to participate.

Estimated Annualized Burden Hours
Type of respondents | Form name | Number of respondents | Number of responses per respondent | Average burden per response (in hours) | Total burden (in hours)
U.S. Firefighters | Informed Consent | 33,333 | 1 | 5/60 | 2,783
U.S. Firefighters | NFR User Profile (web-portal registration) | 33,333 | 1 | 5/60 | 2,783
U.S. Firefighters | NFR Enrollment Questionnaire | 33,333 | 1 | 20/60 | 11,111
U.S. Firefighters | Records request | 34 | 1 | 960/60 | 544
Total |  |  |  |  | 17,221

Jeffrey M. Zirger,
Lead, Information Collection Review Office, Office of Public Health Ethics and Regulations, Office of Science, Centers for Disease Control and Prevention.

[FR Doc. 2024-06095 Filed 3-21-24; 8:45 am]

BILLING CODE 4163-18-P